DEPARTMENT OF TRANSPORTATION

Federal Aviation Administration

Public Notice for Waiver of Aeronautical Land Use Assurance; Great Falls International Airport, Great Falls, MT

AGENCY: Federal Aviation Administration, (FAA), DOT.

ACTION: Notice.

SUMMARY: Notice is being given that the FAA is considering a proposal from the Great Falls International Airport Authority to change certain portions of the airport from aeronautical use to non-aeronautical use at the Great Falls International Airport, Great Falls, MT. The proposal consists of 2.99 acres acquired with an Airport Improvement Program grant shown on the Airport's Exhibit “A” as Parcel 15.

DATES: Comments must be received by March 26, 2018.

ADDRESSES: Comments on this application may be mailed or delivered to the FAA at the following address: Mr. William C. Garrison, Manager, Federal Aviation Administration, Northwest Mountain Region, Airports Division, Helena Airports District Office, 2725 Skyway Drive, Suite 2, Helena, Montana, 59602.

FOR FURTHER INFORMATION CONTACT: Mr. Joe Nye, Civil Engineer, Federal Aviation Administration, Northwest Mountain Region, Helena Airports District Office, 2725 Skyway Drive, Suite 2, Helena, MT, 59602, (406) 449-5719. The request to release aeronautical use restrictions may be reviewed, by appointment, in person at the same location.

SUPPLEMENTARY INFORMATION: The FAA invites public comment on the request to release aeronautical use restriction of 2.99 acres at the Great Falls International Airport under the provisions of the Title 49, U.S.C. Section 47107(h).

The Great Falls International Airport Authority, referred to herein as the Authority, has requested release from the aeronautical use restrictions assigned to 2.99 acres acquired under Airport Improvement Program Grant 3-30-0036-007-1986. The 2.99 acres is shown on the Airport's Exhibit “A” as Parcel 15 and is isolated from the airfield by the airport entry road to the south and west.

The Great Falls International Airport has completed an appraisal of Parcel 15 and found that current fair market value of the property is $236,103. The Authority proposes to reimburse the federal interest in Parcel 15 by reinvesting an amount of $212,493 (90% of the current fair market value) towards the acquisition of an AIP eligible piece of snow removal equipment.

The Authority proposes to lease the property for continued operation of the City of Great Falls 911 Call Center as well as the construction and operation of a fueling station and restaurant on the property. The revenue from the lease of this property will be used for airport purposes. The proposed use of this property is compatible with other airport operations and is in accordance with FAA's Policy and Procedures Concerning the Use of Airport Revenue, published in Federal Register on February 16, 1999.

Any person may inspect the request in person at the FAA office listed above under FOR FURTHER INFORMATION CONTACT.

Issued in Helena, Montana on February 14, 2018.
William C. Garrison,
Manager, Helena Airports District Office.

[FR Doc. 2018-03656 Filed 2-21-18; 8:45 am]

BILLING CODE 4910-13-P